DEPARTMENT OF ENERGY

Federal Energy Regulatory Commission

Combined Notice of Filings #2

Take notice that the Commission received the following electric rate filings:

Docket Numbers: ER17-1812-000.

Applicants: Oregon Clean Energy, LLC.

Description: Request for Waiver of Competitive Entry Exemption Deadline and Expedited Action of Oregon Clean Energy, LLC.

Filed Date: 6/13/17.

Accession Number: 20170613-5152.

Comments Due: 5 p.m. ET 6/27/17.

Docket Numbers: ER17-1816-000.

Applicants: New York Independent System Operator, Inc.

Description: Notice of cancellation of a conforming Small Generator Interconnection Service Agreement No. 2090 of New York Independent System Operator, Inc.

Filed Date: 6/14/17.

Accession Number: 20170614-5095.

Comments Due: 5 p.m. ET 7/5/17.

Docket Numbers: ER17-1817-000.

Applicants: Southern California Edison Company.

Description: § 205(d) Rate Filing: Tie-Line Facilities Agreement True-Up Amendment Brea Power II, LLC to be effective 8/14/2017.

Filed Date: 6/14/17.

Accession Number: 20170614-5104.

Comments Due: 5 p.m. ET 7/5/17.

Docket Numbers: ER17-1818-000.

Applicants: Triton Energy, Inc.

Description: Tariff Cancellation: Cancellation of MBR Tariff to be effective 6/15/2017.

Filed Date: 6/14/17.

Accession Number: 20170614-5123.

Comments Due: 5 p.m. ET 7/5/17.

Docket Numbers: ER17-1819-000.

Applicants: Celerity Energy Partners San Diego LLC.

Description: Tariff Cancellation: Cancellation of MBR Tariff to be effective 6/15/2017.

Filed Date: 6/14/17.

Accession Number: 20170614-5139.

Comments Due: 5 p.m. ET 7/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2017.
Nathaniel J. Davis, Sr.,
Deputy Secretary.

[FR Doc. 2017-13006 Filed 6-21-17; 8:45 am]

BILLING CODE 6717-01-P